DEPARTMENT OF TRANSPORTATION

Office of the Secretary

[Docket No. DOT-OST-2012-0087]

Advisory Committee for Aviation Consumer Protection

AGENCY: Office of the Secretary (OST), Department of Transportation (DOT).

ACTION: Notice of eighth meeting of advisory committee.

SUMMARY: This notice announces the eighth meeting of the Advisory Committee for Aviation Consumer Protection.

DATES: The eighth meeting of the advisory committee is scheduled for June 23, 2015, from 9:00 a.m. to 4:00 p.m., Eastern Time.

ADDRESSES: The meeting will be held in the Media Center (located on the lobby level of the West Building) at the U.S. Department of Transportation (DOT) headquarters, 1200 New Jersey Avenue SE., Washington, DC. Attendance is open to the public up to the room's capacity of 100 attendees. Since space is limited and access to the DOT headquarters building is controlled for security purposes, any member of the general public who plans to attend this meeting must notify the registration contact identified below no later than June 16, 2015.

FOR FURTHER INFORMATION CONTACT: To register to attend the meeting, please contact Amy Przybyla, Research Analyst, CENTRA Technology, Inc., przybylaa@centratechnology.com; 703-894-6962. For other information please contact Kathleen Blank Riether, Senior Attorney, Office of Aviation Enforcement and Proceedings, kathleen.blankriether@dot.gov; U.S. Department of Transportation, 1200 New Jersey Ave. SE., Washington, DC, 20590; 202-366-9342 (phone), 202-366-5944 (fax).

SUPPLEMENTARY INFORMATION:

On May 24, 2012, the Secretary, as mandated by section 411 of the FAA Modernization and Reform Act of 2012 (Pub. L. 112-95, 126 Stat. 11 (2012)), established the Advisory Committee for Aviation Consumer Protection. The committee's charter, drafted in accordance with the Federal Advisory Committee Act, as amended, 5 U.S.C. App. 2, sets forth policies for the operation of the advisory committee and is available on the Department's Web site at http://www.facadatabase.gov/committee/charters.aspx?cid=2448&aid=47.

The eighth meeting of the committee is scheduled for Tuesday, June 23, 2015, from 9:00 a.m. to 4:00 p.m. Eastern Time in the Media Center at the DOT headquarters, 1200 New Jersey Avenue SE., Washington, DC 20590. The issues that will be discussed at the meeting are airline policies on change and cancellation fees, the disclosure of hotel resort fees, and airline policies and procedures for the transport of baggage.

This meeting will be open to the public and comments by members of the public are invited. Attendance will necessarily be limited by the size of the meeting room (maximum 100 attendees). We ask that any member of the general public who plans to attend the eighth meeting notify the registration contact noted above no later than June 16, 2015. Additionally, DOT will stream the event live on the Internet and provide a link to the recorded Web cast for future viewing at www.dot.gov/airconsumer/ACACP.

To the extent time is available, we plan to provide an opportunity for oral comments by interested individuals and/or representatives of organizations representing airlines, travel agents, airport operators, state and local governments, and consumer and other public interest groups. Any oral comments presented must be limited to the objectives of the committee and not exceed five (5) minutes per person. Not later than June 16, 2015, commenters should notify the registration contact person indicated above via email that they wish to present and provide that person a written summary of their presentation to help the committee members prepare for the meeting. Efforts will be made to accommodate each individual/organization that wishes to comment. However, given time constraints, there is no guarantee that all the individuals/organizations that make such a request will be able to address the committee at the June 23rd meeting. In order to provide for a balanced presentation of views and to facilitate the orderly conduct of the meeting, including time for questions from committee members, the Chairperson may impose rules or procedures, including the order of individuals/organizations that will be making presentations, as she deems necessary.

Members of the public may present written comments at any time. The docket number referenced above (DOT-OST-2012-0087, available at https://www.regulations.gov) has been established for committee documents including any written comments that may be filed.

Persons with a disability who plan to attend the meeting and require special accommodations, such as an interpreter for the hearing impaired, should notify the registration contact noted above no later than June 16, 2015.

Notice of this meeting is being provided in accordance with the Federal Advisory Committee Act and the General Services Administration regulations covering management of Federal advisory committees. (41 CFR part 102-3.)

Issued in Washington, DC, on May 27, 2015.
Blane A. Workie,
Assistant General Counsel for Aviation Enforcement & Proceedings, U.S. Department of Transportation.

[FR Doc. 2015-13345 Filed 6-1-15; 8:45 am]

BILLING CODE 4910-9X-P